DEPARTMENT OF DEFENSE

Office of the Secretary

Federal Advisory Committee Meeting Notice

AGENCY: Defense Threat Reduction Agency, Office of the Under Secretary of Defense for Acquisition, Technology and Logistics; Department of Defense.

ACTION: Notice of closed meeting.

SUMMARY: Under the provisions of the Federal Advisory Committee Act of 1972 (5 U.S.C., Appendix, as amended) and the Sunshine Act of 1976 (5 U.S.C. 552b, as amended) the Department of Defense announces the following Federal advisory committee meeting of the Threat Reduction Advisory Committee (Hereafter referred to as the Committee).

DATES: Thursday, December 18, 2008, (8 a.m. to 4 p.m.) and Friday, December 19, 2008, (10 a.m. to 11:30 a.m.).

ADDRESSES: Defense Threat Reduction Agency, Defense Threat Reduction Center Building, Conference Room G, Room 1252, 8725 John J. Kingman Road, Fort Belvoir, Virginia 22060-6201, and the USD (AT&L) Conference Room (3A912A), the Pentagon, Washington, DC.

FOR FURTHER INFORMATION CONTACT: Contact Mr. Eric Wright, Defense Threat Reduction Agency/AST, 8725 John J. Kingman Road, MS 6201, Fort Belvoir, VA 22060-6201; E-mail: eric.wright@dtra.mil; Phone: (703) 767-4759; Fax: (703) 767-5701.

SUPPLEMENTARY INFORMATION: Purpose of Meeting: To obtain, review and evaluate information related to the Committee's mission to advise on technology security, combating weapons of mass destruction (WMD), chemical and biological defense, transformation of the nuclear weapons stockpile, and other matters related to the Defense Threat Reduction Agency's mission.

Meeting Agenda: The Committee will receive summaries of current activities related to combating WMD as well as nuclear deterrent transformation activities from the USD AT&L, ATSD (NCB) and Director of DTRA. Panel summaries from five ad-hoc working Panels (Chemical-Biological Warfare Defense, Systems and Technology, Combating Weapons of Mass Destruction, Nuclear Deterrent Transformation, and Intelligence) will be provided for committee discussion.

Meeting Accessibility: Pursuant to 5 U.S.C. 552b, as amended, and 41 CFR 102-3.155, the Department of Defense has determined that the meeting shall be closed to the public. The Under Secretary of Defense for Acquisition, Technology and Logistics, in consultation with the Office of the DoD General Counsel, has determined in writing that the public interest requires that all sessions of this meeting be closed to the public because they will be concerned with matters listed in section § 552b(c)(1) of title 5, United States Code.

Written Statements: Pursuant to 41 CFR 102-3.105(j) and 102-3.140, the public or interested organizations may submit written statements to the membership of the Committee at any time or in response to the stated agenda of a planned meeting. Written statements should be submitted to the Committee's Designated Federal Officer; the Designated Federal Officer's contact information can be obtained from the GSA's FACA Database— https://www.fido.gov/facadatabase/public.asp.

Written statements that do not pertain to a scheduled meeting of the Committee may be submitted at any time. However, if individual comments pertain to a specific topic being discussed at a planned meeting then these statements must be submitted no later than five business days prior to the meeting in question. The Designated Federal Officer will review all submitted written statements and provide copies to all committee members.

Dated: October 15, 2008.
Patricia L. Toppings,
OSD Federal Register Liaison Officer, Department of Defense.

[FR Doc. E8-25303 Filed 10-22-08; 8:45 am]

BILLING CODE 5001-06-P